DEPARTMENT OF COMMERCE

National Oceanic and Atmospheric Administration

[RTID 0648-XD886]

South Atlantic Fishery Management Council; Public Meetings

AGENCY: National Marine Fisheries Service (NMFS), National Oceanic and Atmospheric Administration (NOAA), Commerce.

ACTION: Notice of public meetings.

SUMMARY: The South Atlantic Fishery Management Council (Council) will hold four port meetings gathering input on Atlantic king mackerel and Atlantic Spanish mackerel as managed by the Fishery Management Plan for Coastal Migratory Pelagic Resources in the Gulf of Mexico and Atlantic Region.

DATES: The port meetings will take place May 14-16, 2024, and June 4, 2024. The port meetings will begin at 6 p.m., local time. For specific dates and times, see SUPPLEMENTARY INFORMATION.

ADDRESSES:

Meeting addresses: The port meetings will be held via webinar May 14-16, 2024 and in-person in Riverhead, New York on June 4, 2024 in conjunction with the Mid-Atlantic Fishery Management Council Meeting. For specific locations, see SUPPLEMENTARY INFORMATION.

Council address: South Atlantic Fishery Management Council, 4055 Faber Place Drive, Suite 201, N Charleston, SC 29405.

FOR FURTHER INFORMATION CONTACT: Christina Wiegand, Fishery Social Scientist, SAFMC; phone: (843) 571-4366 or toll free: (866) SAFMC-10; fax: (843) 769-4520; email: christina.wiegand@safmc.net.

SUPPLEMENTARY INFORMATION: The Council is hosting a series of port meetings along the Atlantic coast throughout 2024 in order to take a focused look at the Atlantic king mackerel and Atlantic Spanish mackerel fisheries. The webinar port meetings on May 14-16, 2024 will focus on gathering input from fishermen in the New England region, specifically Connecticut, Rhode Island, and Massachusetts. The in-person port meeting on June 4, 2024 will focus on gathering input from fishermen in the state of New York.

The agenda for the port meetings is as follows:

Council staff will briefly introduce port meetings and the Council's goals and objectives. Attendees will then have the opportunity to provide input on a variety of issues related to the Atlantic king mackerel and Spanish mackerel fisheries including changing environmental conditions, needed management changes, commercial and recreational fishery dynamics, and the goals and objectives of the Coastal Migratory Pelagics Fishery Management Plan. Information provided during port meetings will be summarized and presented to the Council for use in management decision-making. Additional port meetings will be scheduled along the Atlantic coast throughout the remainder of 2024.

Webinar Information

The May 14-16, 2024 port meetings will be conducted via webinar. The port meetings will begin at 6 p.m. Registration for the webinars is required. Registration information will be posted on the Council's website at https://safmc.net/king-and-spanish-mackerel-port-meetings/ as it becomes available.

In-Person Location

Tuesday, June 4, 2024: Atlantis Banquets and Events, 431 East Main Street, Riverhead, New York, 11901; phone: (631) 574-8008.

Special Accommodations

These meetings are physically accessible to people with disabilities. Requests for auxiliary aid should be directed to the Council office (see ADDRESSES) 3 days prior to the meeting.

Note: The times and sequence specified in this agenda are subject to change.

Authority: 16 U.S.C. 1801 et seq.

Dated: April 22, 2024.
Rey Israel Marquez,
Acting Deputy Director, Office of Sustainable Fisheries, National Marine Fisheries Service.

[FR Doc. 2024-08961 Filed 4-25-24; 8:45 am]

BILLING CODE 3510-22-P